DEPARTMENT OF COMMERCE

Foreign-Trade Zones Board

[Docket T-2-2010]

Foreign-Trade Zone 196 - Fort Worth, Texas, Application for Temporary/Interim Manufacturing Authority, ATC Logistics & Electronics (Cell Phone Kitting and Distribution), Fort Worth, Texas

An application has been submitted to the Executive Secretary of the Foreign-Trade Zones Board (the Board) by ATC Logistics & Electronics, operator of Site 2, FTZ 196, Fort Worth, Texas, requesting temporary/interim manufacturing (T/IM) authority. The application was filed on March 29, 2010.

ATCLE has requested authority for the kitting and distribution of cell phones (HTSUS 8517.12, duty free) under T/IM procedures at its facility (152 employees, 186,000 square feet, 2 million unit capacity). Foreign components that would be used in production (representing 96% of the value of the finished product) include: cell phone batteries; cell phone chargers and adaptors; headphones; earphones; microphones; speaker sets; battery doors; cables; holsters; leather carrying cases and pouches; wrist straps; sealing gaskets; key pads; and decals (duty rate ranges from duty free to 8.0%). T/IM authority could be granted for a period of up to two years. ATCLE has also submitted a request for long-term FTZ manufacturing authority (see Docket 19-2010).

Under FTZ procedures, ATCLE would be able to choose the duty rates during customs entry procedures that apply to cell phones (duty free) for the foreign inputs noted above for its shipments to the U.S. market. ATCLE could also realize logistical benefits through the use of weekly customs entry procedures. The request indicates that the savings from FTZ procedures would help improve the plant's international competitiveness.

In accordance with the Board's regulations, Maureen Hinman of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave. NW, Washington, DC 20230. The closing period for their receipt is May 7, 2010.

ATCLE has also submitted a request for long-term FTZ manufacturing authority, which may include additional products and components. It should be noted that the request for permanent authority would be docketed separately and would be processed as a distinct proceeding. Any party wishing to submit comments for consideration regarding the request for permanent authority would need to submit such comments pursuant to the separate notice that would be published for that request.

A copy of the application will be available for public inspection at the Office of the Foreign-Trade Zones Board's Executive Secretary at the address listed above, and in the “Reading Room” section of the Board's website, which is accessible via www.trade.gov/ftz. For further information, contact Maureen Hinman at maureen.hinman@trade.gov or (202) 482-0627.

Dated: March 30, 2010.
Andrew McGilvray,
Executive Secretary.

[FR Doc. 2010-7885 Filed 4-6-10; 8:45 am]

BILLING CODE 3510-DS-S